NUCLEAR REGULATORY COMMISSION

[Docket Nos. 50-409 and 72-046; EA-19-077; NRC-2019-0110]

In the Matter of LaCrosseSolutions, LLC; La Crosse Boiling Water Reactor

AGENCY: Nuclear Regulatory Commission.

ACTION: Direct transfer of license; extending effectiveness of order.

SUMMARY: The U.S. Nuclear Regulatory Commission (NRC) is issuing an order to extend the effectiveness of a September 24, 2019, order, which approved the direct transfer of Possession Only License No. DPR-45 for the La Crosse Boiling Water Reactor (LACBWR) from the current holder, LaCrosseSolutions, LLC, to Dairyland Power Cooperative and approved a conforming license amendment, for 12 months beyond its current September 24, 2021, expiration date.

DATES: The order was issued on August 30, 2021 and was effective upon issuance.

ADDRESSES: Please refer to Docket ID NRC-2019-0110 when contacting the NRC about the availability of information regarding this document. You may obtain publicly available information related to this document using any of the following methods:

• Federal Rulemaking website: Go to https://www.regulations.gov and search for Docket ID NRC-2019-0110. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The request for extending the effectiveness of the transfer order is available in ADAMS under Accession No. ML21230A330. The order extending the effectiveness of the transfer order is available in ADAMS under Accession No. ML21228A107.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Marlayna Doell, Office of Nuclear Material Safety and Safeguards, U.S. Nuclear Regulatory Commission, Washington, DC 20555-0001; telephone: 301-415-3178; email: Marlayna.Doell@nrc.gov.

SUPPLEMENTARY INFORMATION: The text of the order is attached.

Dated: September 2, 2021.
For the Nuclear Regulatory Commission.
Bruce A. Watson,
Chief, Reactor Decommissioning Branch, Division of Decommissioning, Uranium Recovery and Waste Programs, Office of Nuclear Material Safety and Safeguards.

Attachment—Order Extending the Effectiveness of the Approval of the Transfer of License and Conforming Amendment

United States of America

Nuclear Regulatory Commission

[NRC-2019-0110]

In the Matter of LaCrosseSolutions, LLC; La Crosse Boiling Water Reactor

EA-19-077; Docket Nos. 50-409 and 72-046; License No. DPR-45

Order Extending the Effectiveness of the Approval of the Transfer of License and Conforming Amendment

I

LaCrosseSolutions, LLC is the holder of the U.S. Nuclear Regulatory Commission (NRC, the Commission) Possession Only License No. DPR-45, with respect to the possession, maintenance, and decommissioning of the La Crosse Boiling Water Reactor (LACBWR). Operation of the LACBWR is no longer authorized under this license. The LACBWR facility is located in Vernon County, Wisconsin.

II

By Order dated September 24, 2019 (Transfer Order), the Commission consented to the transfer of the LACBWR license to Dairyland Power Cooperative and approved a conforming license amendment in accordance with Section 50.80, “Transfer of licenses,” and Section 50.90, “Application for amendment of license, construction permit, or early site permit,” of Title 10 of the Code of Federal Regulations (10 CFR). By its terms, the Transfer Order becomes null and void if the license transfer is not completed within one year unless, upon application, and for good cause shown, the Commission extends the Transfer Order's September 24, 2020, expiration date. By letter dated June 24, 2020, LaCrosseSolutions, LLC submitted a request to extend the effectiveness of the Transfer Order by six months. By Order dated September 1, 2020 (First Extension Order), the Commission extended the Transfer Order's expiration date to March 24, 2021. Subsequently, by letter dated February 2, 2021, LaCrosseSolutions, LLC submitted a request to extend the effectiveness of the Transfer Order by an additional six months. By Order dated March 9, 2021 (Second Extension Order), the Commission extended the Transfer Order's expiration date to September 24, 2021.

III

By letter dated August 17, 2021, LaCrosseSolutions, LLC submitted a request to extend the effectiveness of the Transfer Order by an additional twelve months, until September 24, 2022. As stated in the letter, the LACBWR Final Status Survey Final Reports (FSSRs), their associated Release Records, and responses to NRC staff requests for additional information (RAIs) are currently under review by the NRC staff. The letter noted that, based on the current status of the NRC review, it is anticipated that additional time will be needed to address questions or potential issues identified by the NRC staff during its review of the RAI responses and revised LACBWR FSSRs. The letter also stated that the extension would allow adequate time for response development by LaCrosseSolutions, LLC regarding possible additional questions or potential issues, and for the NRC staff to assess the responses provided by LaCrosseSolutions, LLC and to make a final determination regarding the release of the majority of the LACBWR site for unrestricted use.

Based on the above, the NRC has determined that LaCrosseSolutions, LLC has shown good cause for extending the effectiveness of the Transfer Order by an additional twelve months, as requested.

IV

Accordingly, pursuant to Sections 161b, 161i, and 184 of the Atomic Energy Act of 1954, as amended, 42 U.S.C. Sections 2201(b), 2201(i), and 2234; and 10 CFR 50.80, IT IS HEREBY ORDERED that the expiration date of the Transfer Order, as extended by the Second Extension Order, is further extended until September 24, 2022. If the subject license transfer from LaCrosseSolutions, LLC to Dairyland Power Cooperative is not completed by September 24, 2022, the Transfer Order shall become null and void; provided, however, that upon written application and for good cause shown, such date may be extended by order.

This Order is effective upon issuance.

For further details with respect to this Order, see the extension request dated August 17, 2021, which is available electronically through the NRC's Agencywide Documents Access and Management System (ADAMS) in the NRC Library at https://www.nrc.gov/reading-rm/adams.html under Accession No. ML21230A330. Persons who encounter problems with ADAMS should contact the NRC's Public Document Room reference staff by telephone at 1-800-397-4209 or 301-415-4737 or by email to pdr.resource@nrc.gov.

Dated this 30th day of August 2021.

For the Nuclear Regulatory Commission

/RA/

John W. Lubinski,

Director, Office of Nuclear Material Safety and Safeguards.

[FR Doc. 2021-19343 Filed 9-3-21; 8:45 am]

BILLING CODE 7590-01-P